DEPARTMENT OF AGRICULTURE

Office of Small and Disadvantaged Business Utilization; Federal Subcontracting Workshop

AGENCY: U.S. Department of Agriculture (USDA), Office of Small and Disadvantaged Business Utilization.

ACTION: Notice of meeting.

SUMMARY: The Office of Small and Disadvantaged Business Utilization (OSDBU) at the U.S. Department of Agriculture (USDA) will hold a Federal Subcontracting Workshop on Thursday, October 12, 2000, from 9:00 AM to 4:00 PM in Room 107-A of the Jamie L. Whitten Building, 1400 Independence Avenue, SW, Washington, DC 20250-9501. Attendance at the workshop is open to representatives from large business concerns, small business concerns and non-profit organizations.

The workshop will be devoted to the Small Disadvantaged Business (SDB) Program as it relates to Subcontracting. An update on the HUBZone Program and new subcontracting requirements will also be covered at the workshop.

Presentation topics include Key Procurement Initiatives; the Small Business Administration's (SBA) Role in Subcontracting; the Small Disadvantaged Business (SDB) Reform as it Relates to Subcontracting (SDB Certification, SDB Participation Program, SDB Targets for Authorized Subcontracts); SDB Procurement Mechanisms including the Subcontracting Evaluation Factor for SDB Participation and Monetary Subcontracting Incentives; Subcontract Reporting (SF-294, SF-295, Annual SDB Supplemental Report, and Other Reporting Requirements); An Update on the HUBZone Program, the New North American Industry Classification (NAIC) Codes; New Subcontracting Requirements for Veterans; the Federal Procurement Data System (FPDS)—the Need for Accurate Data, Uses for the Procurement Data, Input of SF-295 Data; the Role of the Commercial Market Representative (CMR)—How the CMR Assists Prime Contractors; An Update on SBA's PRO-Net System; and an Update on USDA's Subcontracting Program.

Ms. Linda Oliver, Associate Administrator, Procurement Law and Legislation, U.S. Office of Federal Procurement Policy (OFPP), and Mr. Robert Taylor, Manager of the Federal Subcontracting Program at the U.S. Small Business Administration (SBA), will be among the guest speakers.

Confidential and proprietary information will not be discussed at the workshop. Seating at the workshop is limited, and reservations are required. Reservations will be taken on a first-come, first-served basis.

DATES: Reservations must be made by September 25, 2000 (fax or e-mail only).

ADDRESSES: Confirm by facsimile at (202) 720-3001. Confirm by e-mail at janet.baylor@usda.gov.

FOR FURTHER INFORMATION CONTACT: Loretta D'Amico, USDA/OSDBU, 1400 Independence Avenue, SW, AG STOP 9501, Washington, DC 20250-9501, telephone: (202) 720-7117, or visit the OSDBU Home Page on the Internet at www.usda. gov/osdbu under the What's New Section. If you or a representative from your company is disabled and need special accommodations to participate in the event, please notify Loretta D'Amico at (202) 720-7117 (v) or through the Federal Information Relay Service at 1-800-877-8339 (voice/tdd) by September 25, and the accommodations will be provided.

J. Michael Green,
Deputy Director, Office of Small and Disadvantaged Business Utilization.

[FR Doc. 00-22505 Filed 9-1-00; 8:45 am]

BILLING CODE 3410-01-P